DEPARTMENT OF DEFENSE

Department of the Air Force

[Docket ID: USAF-2008-0017]

Privacy Act of 1974; System of Records

AGENCY: Department of Air Force.

ACTION: Notice to Amend a System of Records.

SUMMARY: The Department of Air Force proposes to amend a system of records to its inventory of record systems subject to the Privacy Act of 1974 (5 U.S.C. 552a), as amended.

DATES: The changes will be effective on September 22, 2008 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Leroy Jones at (703) 696-6488.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: August 15, 2008.
Patricia L. Toppings,
OSD Federal Register Liaison Officer, Department of Defense.

F036 AETC J

System name:

College Scholarship Program (CSP) (July 7, 2008, 73 FR 38411).

Changes:

Change System ID to “F036 AETC X”.

* * * * *

F036 AETC X

System name:

College Scholarship Program (CSP).

System location:

Central records maintained at the College Scholarship Program (CSP), HQ AFROTC/RRUC, 551 East Maxwell Boulevard, Maxwell Air Force Base, AL 36112-6106.

Categories of individuals covered by the system:

High school students or graduates who apply for the CSP.

Categories of records in the system:

Air Force Reserve Officer Training Corp (AFROTC) administrative unit; applicant's address; AFROTC detachment located at the educational institution to be attended by the applicant; AFROTC detachment which the applicant desires to attend; Air Force Junior Reserve Officer Training Corp (AFJROTC) unit attended by applicant; college entrance examination board scores; applicant's class standing and size of class; applicant's disqualification causes; personal interview actions and associated waivers as required; applicant's medical status; applicant's full name; AFROTC program qualification; applicant's medical remedial requirements; applicant's scholarship status; applicant's Social Security Number (SSN); applicant's test qualification; civil air patrol wing attended; applicant's high school and address; applicant's high school placement; applicant's grade point average; applicant's telephone number; applicant's date of birth; applicant's statement of understanding and intent; medical testing facility; AFROTC area admission counselor's areas of responsibilities; applicant's scholarship choices; AFROTC CSP scholarship selection board results; applicant's designated scholarship; civil involvement information and associated waivers as required; name of educational institution to be attended by applicant; applicant's high school principal evaluation; AFJROTC instructor evaluation of a cadet; English teacher's evaluation; Math teacher's evaluation; Science teacher's evaluation; high school transcripts; application forms. Computer generated summary data posted on the Air Force Officer Accessions Training School (AFOATS) restricted Web site viewed only by AFROTC detachments.

Authority for maintenance of the system:

10 U.S.C. 2107, Financial Assistance Program for Specially Selected Members; Air Force Instruction 36-2011, Air Force Reserve Officer Training Corps; Executive Order 9897; and E.O. 9397 (SSN).

Purpose(s):

Used by AFROTC scholarship program office and AFROTC detachments for processing and awarding of CSP scholarships; counseling applicants concerning application difficulties and problems; investigatory material compiled to determine suitability, eligibility and selection for a scholarship, and the recruiting of applicants into the AFROTC program.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The “Blanket Routine Uses” published at the beginning of the Air Force's compilation of systems of records notices apply to this system.

Policies and practices for storing, retrieving, accessing, retaining, and disposing of records in the system:

Storage:

Maintained in file folders, visible file binders/cabinets, and electronic storage media.

Retrievability:

By name and Social Security Number (SSN).

Safeguards:

Records are accessed by custodian of the record system and by person(s) responsible for servicing the record system in performance of their official duties who are properly screened and cleared for need-to-know. Records are stored in locked rooms and cabinets. Those in computer storage devices are protected by computer system software. All information is sent out through the U.S. Postal Service.

Retention and disposal:

Destroy after 1 year or when no longer needed whichever is sooner. Destroy by tearing into pieces, shredding, pulping, macerating, or burning. Computer records are destroyed by erasing, deleting or overwriting.

System manager(s) and address:

Mr. Jack Sanders, Chief, College Scholarship Program, HQ AFROTC/RRUC, 551 East Maxwell Blvd., Maxwell Air Force Base, AL 36112-6106.

Notification procedure:

Applicants seeking to determine whether information about themselves is contained in this system can address written requests to or visit the Chief, College Scholarship Program, HQ AFROTC/RRUC, 551 East Maxwell Boulevard, Maxwell Air Force Base, AL 36112-6106 or to the AFROTC Detachment Commander at location of assignment.

Applicants must provide their full name, military-applicant status, and Social Security Number or military service number.

Record access procedures:

Applicants seeking access to information about themselves from CSP records can obtain assistance by writing to or visiting the Chief, College Scholarship Program, HQ AFROTC/RRUC, 551 East Maxwell Blvd., Maxwell Air Force Base, AL 36112-6106 or to the AFROTC Detachment Commander at location of assignment.

Applicants must provide their full name, military-applicant status, and Social Security Number or military service number.

Contesting record procedures:

The Air Force rules for accessing records, and for contesting contents and appealing initial agency determinations are published in Air Force Instruction 33-332; 32 CFR part 806b; or may be obtained from the system manager.

Record source categories:

Information obtained from educational institutions, automated system interfaces, police and investigating officers and from source documents such as reports.

Exemptions claimed for the system:

Portions of this system which fall within 5 U.S.C. 552a(k)(5) are exempt from the following provisions of Title 5 U.S.C. 552a: Sections (c)(3); (d); (e)(4), (g), (h), and (f) of the Act, but only to the extent that disclosure would reveal the identity of a confidential source.

An exemption rule for this record system has been promulgated in accordance with the requirements of 5 U.S.C. 553(b)(1), (2), and (3), (c) and (e) and published in 32 CFR part 806b. For additional information contact the system manager.

[FR Doc. E8-19504 Filed 8-21-08; 8:45 am]

BILLING CODE 5001-06-P